Title 3—

The President

Executive Order 14141 of January 14, 2025

Advancing United States Leadership in Artificial Intelligence Infrastructure

By the authority vested in me as President by the Constitution and the laws of the United States of America, it is hereby ordered as follows:

Section 1. Purpose. Artificial intelligence (AI) is a defining technology of our era. Recent advancements in AI demonstrate its rapidly growing relevance to national security, including with respect to logistics, military capabilities, intelligence analysis, and cybersecurity. Building AI in the United States will help prevent adversaries from gaining access to, and using, powerful future systems to the detriment of our military and national security. It will also enable the United States Government to continue harnessing AI in service of national-security missions while preventing the United States from becoming dependent on other countries' infrastructure to develop and operate powerful AI tools.

Advances at the frontier of AI will also have significant implications for United States economic competitiveness. These imperatives require building AI infrastructure in the United States on the time frame needed to ensure United States leadership over competitors who, already, are racing to take the lead in AI development and adoption. Building AI in the United States requires enormous private-sector investments in infrastructure, especially for the advanced computing clusters needed to train AI models and the energy infrastructure needed to power this work. Already, AI's electricity and computational needs are vast, and they are set to surge in the years ahead. This work also requires secure, reliable supply chains for critical components needed to build AI infrastructure, from construction materials to advanced electronics.

This order sets our Nation on the path to ensure that future frontier AI can, and will, continue to be built here in the United States. In building domestic AI infrastructure, our Nation will also advance its leadership in the clean energy technologies needed to power the future economy, including geothermal, solar, wind, and nuclear energy; foster a vibrant, competitive, and open technology ecosystem in the United States, in which small companies can compete alongside large ones; maintain low consumer electricity prices; and help ensure that the development of AI infrastructure benefits the workers building it and communities near it.

With this order, I provide a plan for protecting national security, preserving our economic competitiveness, revitalizing our energy infrastructure, and ensuring United States leadership in AI.

Sec. 2. Policy. It is the policy of the United States to enable the development and operation of AI infrastructure, including data centers, in the United States in accordance with five guiding principles. When undertaking the actions set forth in this order, executive departments and agencies (agencies) shall adhere to these principles, as appropriate and consistent with applicable law:

(a) The development of AI infrastructure should advance United States national security and leadership in AI. Meeting this goal will require steps by the Federal Government, in collaboration with the private sector, to advance AI development and use AI for future national-security missions, including through the work described in National Security Memorandum 25 of October 24, 2024 (Advancing the United States' Leadership in Artificial Intelligence; Harnessing Artificial Intelligence to Fulfill National Security Objectives; and Fostering the Safety, Security, and Trustworthiness of Artificial Intelligence) (NSM-25). It will also require the use of safeguards to improve the cyber, supply-chain, and physical security of the laboratories at which powerful AI is developed, stored, and used. Additionally, protecting United States national security will require further work to evaluate and manage risks related to the powerful capabilities that future frontier AI may possess.

(b) The development of AI infrastructure should advance United States economic competitiveness, including by fostering a vibrant technology ecosystem. Already, AI is creating new jobs and industries, and its effects are being felt in sectors across the economy. The Federal Government must ensure that the United States remains competitive in the global economy, including through harnessing the benefits of this technology for all Americans. It must also promote a fair, open, and competitive AI ecosystem so that small developers and entrepreneurs can continue to drive innovation—a priority highlighted in both Executive Order 14110 of October 30, 2023 (Safe, Secure, and Trustworthy Development and Use of Artificial Intelligence), and NSM-25—as well as to support secure, reliable supply-chain infrastructure for AI activities.

(c) The United States can and should lead the world in operating the next generation of AI data centers with clean power. Meeting this goal will require building on recent successes to modernize our Nation's energy infrastructure; improve permitting processes; and support investments in, and expeditious development of, both currently available and emerging clean energy technologies, such as geothermal energy, nuclear energy, and long-duration energy storage used to store clean energy, as well as relevant supply chains. The United States must not be surpassed in its support for the development, commercialization, and operation of clean energy technologies at home and abroad, and the rapid buildout of AI infrastructure offers another vital opportunity to accelerate and deploy these energy technologies. To help ensure that new data center electricity demand does not take clean power away from other end users, result in resource adequacy issues, or increase grid emissions, the construction of AI infrastructure must be matched with new, clean electricity generation resources.

(d) The development of AI infrastructure should proceed without raising energy costs for American consumers and businesses, and it should have strong community support. The companies developing, commercializing, and deploying AI must finance the cost of building the infrastructure needed for AI operations, including the development of next-generation power infrastructure built for these operations.

(e) The development of AI infrastructure should benefit those working to build it. Meeting this goal will require high labor standards and safeguards for the buildout of AI infrastructure, consultation and close collaboration with communities affected by this infrastructure's development and operation, and continuous work to mitigate risks and potential harms. The American people more broadly must safely enjoy the gains and opportunities from technological innovation in the AI ecosystem.

Sec. 3. Definitions. For purposes of this order:

(a) The term “agency” means each agency described in 44 U.S.C. 3502(1), except for the independent regulatory agencies described in 44 U.S.C. 3502(5).

(b) The term “AI data center” means a data center used primarily with respect to developing or operating AI.

(c) The term “AI infrastructure” refers collectively to AI data centers, generation and storage resources procured to deliver electrical energy to data centers, and transmission facilities developed or upgraded for the same purpose.

(d) The term “AI model” means a component of an information system that implements AI technology and uses computational, statistical, or machine-learning techniques to produce outputs from a given set of inputs.

(e) The term “clean energy” or “clean energy generation resources” means generation resources that produce few or no emissions of carbon dioxide during operation, including when paired with clean storage technologies. This term includes geothermal, nuclear fission, nuclear fusion, solar, wind, hydroelectric, hydrokinetic (including tidal, wave, and current), and marine energy; and carbon capture, utilization, and storage technologies (for which the carbon capture equipment meets the definition set forth in 26 C.F.R. 1.45Q-2(c)) that operate with fossil fuel generation resources, that achieve carbon dioxide capture rates of 90 percent or higher on an annual basis, and that permanently sequester the captured carbon dioxide.

(f) The term “clean power” means electricity generated by the generation resources described in subsection (e) of this section.

(g) The term “clean repowering” means the practice of siting new clean generation sources at a site with an existing point of interconnection and generation sources operating with fossil fuels, such that some output or capacity from existing generation sources is replaced by the new clean generation sources.

(h) The term “critical electric infrastructure information” has the same meaning as set forth in 18 C.F.R. 388.113(c).

(i) The term “data center” means a facility used to store, manage, process, and disseminate electronic information for a computer network, and it includes any facility that is composed of one or more permanent or semi-permanent structures, or that is a dedicated space within such structure, and operates persistently in a fixed location; that is used for the housing of information technology equipment, including servers, mainframe computers, high-performance computing devices, or data-storage devices; and that is actively used for the hosting of information and information systems that are accessed by other systems or by users on other devices.

(j) The term “distributed energy resource” has the same meaning as set forth in 18 C.F.R. 35.28(b)(10).

(k) The term “Federal Permitting Agencies” refers to the agency members of the Federal Permitting Improvement Steering Council (Permitting Council) established under section 41002 of the Fixing America's Surface Transportation (FAST) Act, 42 U.S.C. 4370m-1, as well as any other agency with authority to issue a Federal permit or approval required for the development or operation of AI infrastructure.

(l) The term “Federal Risk and Authorization Management Program” refers to the program established to provide an approach for the adoption and use of cloud services by the Federal Government, as codified in 44 U.S.C. 3607-3616 (as enacted by the FedRAMP Authorization Act, section 5921 of Public Law 117-263).

(m) The term “frontier AI data center” means an AI data center capable of being used to develop, within a reasonable time frame, an AI model with characteristics related either to performance or to the computational resources used in its development that approximately match or surpass the state of the art at the time of the AI model's development.

(n) The term “frontier AI infrastructure” means AI infrastructure for which the relevant data center is a frontier AI data center.

(o) The term “frontier AI training” refers to the act of developing an AI model with characteristics related either to performance or to the computational resources used in its development that approximately match or surpass the state of the art at the time of the AI model's development.

(p) The term “generation resource” means a facility that produces electricity.

(q) The terms “interconnection,” “interconnection facilities,” and “point of interconnection” refer to facilities and equipment that physically and electrically connect generation resources or electrical load to the electric grid for the purpose of the delivery of electricity, for which grid operators have granted all appropriate approvals required for those facilities and equipment to operate.

(r) The term “lab-security measures” refers to steps to detect, prevent, or mitigate physical, cyber, or other threats to the operation of a data center, to the integrity of information or other assets stored within it, or of unauthorized access to such information or assets.

(s) The term “leading-edge logic semiconductors” refers to semiconductors produced at high volumes using extreme ultraviolet lithography tools as defined by the CHIPS Incentives Program Notice of Funding Opportunity, 2023-NIST-CHIPS-CFF-01.

(t) The term “model weight” means a numerical parameter within an AI model that helps determine the model's outputs in response to inputs.

(u) The term “new source review” refers to the permitting program with this name in 40 C.F.R. parts 51 or 52.

(v) The term “non-Federal parties” refers to private-sector entities that enter into a contract with the Department of Defense or the Department of Energy pursuant to section 4(g) of this order.

(w) The term “priority geothermal zone” refers to lands with high potential for the development of geothermal power generation resources, as designated by the Secretary of the Interior, including pursuant to section 4(c) of this order.

(x) The term “project labor agreement” means a pre-hire collective bargaining agreement that establishes the terms and conditions of a construction project.

(y) The term “surplus interconnection service” has the same meaning as set forth in Federal Energy Regulatory Commission Order No. 845.

(z) The terms “transmission facilities” and “transmission infrastructure” mean equipment or structures, including transmission lines and related facilities, used for the purpose of delivering electricity.

(aa) The term “transmission organization” refers to a Regional Transmission Organization or an Independent System Operator.

(bb) The term “transmission provider” means an entity that manages or operates transmission facilities for the delivery of electric energy used primarily by the public and that is not a transmission organization.

(cc) The term “waters of the United States” has the same meaning as set forth in 33 C.F.R. 328.3(a).

Sec. 4. Establishing Federal Sites for AI Infrastructure. (a) By February 28, 2025, the Secretary of Defense and the Secretary of Energy shall, if possible, each identify a minimum of 3 sites on Federal land managed by their respective agencies that may be suitable for the agencies to lease to non-Federal entities for the construction and operation of a frontier AI data center, as well as for the construction and operation of clean energy facilities to serve the data center, by the end of 2027. In identifying these sites, each Secretary shall, as feasible and appropriate, seek to prioritize sites that possess the following characteristics, as consistent with the objective of fully permitting and approving work to construct a frontier AI data center at each site by the end of 2025:

(i) inclusion of sufficient terrain with appropriate land gradients, soil durability, and other topographical characteristics for frontier AI data centers;

(ii) minimized adverse effects from AI infrastructure development or operation on local communities' health, wellbeing, and resource access; natural or cultural resources; threatened or endangered species; and harbors or river improvements not associated with hydropower generation resources;

(iii) proximity to any communities seeking to host AI infrastructure, including for reasons related to local workers' access to jobs involved in designing, building, maintaining, and operating data centers;

(iv) ready access and proximity to high-voltage transmission infrastructure that minimizes the scale of, cost of, and timeline to develop any transmission upgrades or development needed to interconnect AI infrastructure, in consideration of access and proximity to:

(A) high-capacity transmission infrastructure with unused capacity, as identified by collection activities described in section 6 of this order;

(B) any planned generation facilities that can enable delivery of electricity to an AI data center on the site managed by each Secretary's respective agency, that possess an executed interconnection agreement with a transmission provider, that do not possess an executed power purchase agreement, and for which construction has not yet begun;

(C) any lands that the Secretary of the Interior identifies pursuant to subsection (c) of this section; and

(D) any power generation facilities with high clean repowering potential;

(v) location within geographic areas that are not at risk of persistently failing to attain National Ambient Air Quality Standards, and where the total cancer risk from air pollution is at or below the national average according to the Environmental Protection Agency's (EPA's) 2020 AirToxScreen;

(vi) lack of proximity to waters of the United States for purposes of permitting requirements;

(vii) lack of extensive restrictions on land uses associated with constructing and operating AI infrastructure or on access to necessary rights-of-way for such activities;

(viii) ready access to high-capacity telecommunications networks;

(ix) suitability for the development of access roads or other temporary infrastructure necessary for the construction of AI infrastructure; and

(x) absence of other characteristics that would, if the site was used or repurposed for AI infrastructure, compromise a competing national security concern as determined by the relevant Secretary in consultation with the Assistant to the President for National Security Affairs.

(b) By March 15, 2025, the Secretary of the Interior, acting through the Director of the Bureau of Land Management (BLM), in consultation with the Secretary of Defense, the Secretary of Energy, and the Chair of the Federal Energy Regulatory Commission, shall identify sites managed by BLM that the Secretary of the Interior, acting through the Director of BLM, deems may be suitable for granting or issuing rights of way to private-sector entities to construct and operate additional clean energy facilities that are being or may be built as components of frontier AI infrastructure developed pursuant to this section. In performing this work, the Secretary of the Interior, in consultation with the Secretary of Defense and the Secretary of Energy, shall take steps to ensure where feasible and appropriate that any such sites identified under this subsection include sufficient acreage for developing clean generation resources that can deliver sufficient electricity to each site identified under subsection (a) of this section for matching the capacity needs of frontier AI data centers on the latter sites. The sites identified under this subsection shall include any land managed by the Department of the Interior that is within a region designated by the Secretary of the Interior under subsection (c) of this section, or a region preliminarily identified as a candidate for such designation. In determining the suitability of sites, the Secretary of the Interior, acting through the Director of BLM, shall prioritize identification of sites that:

(i) contain completed, permitted, or planned clean generation projects that can enable delivery of electricity as described in this subsection and possess an executed interconnection agreement with a transmission provider;

(ii) have been allocated as available for solar applications in the Final Programmatic Environmental Impact Statement and Proposed Resource Management Plan Amendments for Utility-Scale Solar Energy Development, published by BLM, or that have otherwise been allocated as available for clean-energy applications in a BLM resource management plan;

(iii) have reasonable access to and are located nearby existing high-voltage transmission lines that have at least one gigawatt of additional capacity available, or for which such capacity can be reasonably developed through reconductoring, grid-enhancing technologies, or transmission upgrades;

(iv) possess the characteristics described in subsections (a)(i)-(x) of this section, in a manner that is consistent with the objective of fully permitting and approving work to construct utility-scale power facilities on a timeline that allows for the operation of those facilities by the end of 2027 or as soon as feasible thereafter; and

(v) possess other characteristics conducive to enabling new clean power development at such sites to contribute to lower regional electricity prices or to bring other community benefits.

(c) By March 15, 2025, the Secretary of the Interior, acting through the Director of BLM and in consultation with the Secretary of Energy, shall, if possible, designate at least five regions composed of lands or subsurface areas managed by the Department of the Interior as Priority Geothermal Zones (PGZs). The Secretary of the Interior shall designate those regions based on their potential for geothermal power generation resources, including hydrothermal and next-generation geothermal power and thermal storage; diversity of geological characteristics; and possession of the characteristics described in subsections (a)(i)-(x) and (b)(i)-(v) of this section.

(d) The Secretary of Defense, the Secretary of Energy, and the Secretary of the Interior shall each make a legal determination as to whether each site identified pursuant to subsections (a) and (b) of this section is available for lease or for the issuance of a right of way, as appropriate, pursuant to the authority of the Secretary that made the identification, and as to whether the Secretary has the legal authority to lease or grant a right of way over or upon each site identified for the construction of frontier AI infrastructure. For purposes of this order, a site shall be considered “cleared” under this subsection if the relevant Secretary has determined that the site is available for lease and the Secretary concerned has the authority to lease it.

(e) By March 31, 2025, the Secretary of Defense and the Secretary of Energy, in coordination with the heads of any other agencies that either Secretary deems appropriate, shall coordinate to design, launch, and administer competitive public solicitations of proposals from non-Federal entities to lease Federal land to construct frontier AI infrastructure, including frontier AI data centers, on sites identified under subsection (a) of this section and cleared under subsection (d) of this section, if any. When issuing the solicitations, the Secretaries shall announce the sites identified under subsection (a) of this section and cleared under subsection (d) of this section, if any, and additional relevant information including the sites' geographic coordinates, technical characteristics, proximity to sites identified consistent with subsection (b) of this section and cleared under subsection (d) of this section, if any, and other relevant information. The solicitations shall, to the extent consistent with applicable law and to the extent the Secretaries agree that such requirements promote national defense, national security, or the public interest, as appropriate, require applicants to identify particular sites on which they propose to construct and operate frontier AI infrastructure; submit a detailed plan specifying proposed timelines, financing methods, and technical construction plans associated with such construction work, including a contingency plan for decommissioning infrastructure on Federal sites; submit a plan that describes proposed frontier AI training work to occur at the site once operational; submit a plan for detailing the extent of the use of high labor and construction standards as described in subsection (g)(viii) of this section; and submit a plan with proposed lab-security measures, including personnel and material access requirements, that could be associated with the operation of frontier AI infrastructure. These requirements should be designed to ensure adequate collection of information from applicants regarding the criteria in subsections (g)(i)-(xvi) of this section. The solicitations shall close within 30 days of their issuance.

(f) By March 31, 2025, the Secretary of the Interior, in consultation with the Secretary of Defense and the Secretary of Energy, shall publicize the sites identified under subsection (b) of this section and cleared under subsection (d) of this section, if any, and additional relevant information including the sites' geographic coordinates, technical characteristics, proximity to sites identified consistent with subsection (a) of this section and cleared under subsection (d) of this section, if any, and other relevant information.

(g) By June 30, 2025, the Secretary of Defense and the Secretary of Energy shall announce any winning proposals identified through solicitations described in subsection (e) of this section. In selecting any winning proposals, the Secretary of Defense and the Secretary of Energy shall, in consultation with each other, assign winners the opportunity to apply for any Federal permits needed to build and operate frontier AI infrastructure pursuant to the frameworks described in subsection (h) of this section on any sites included in the solicitations issued under subsection (e) of this section, as the Secretaries deem appropriate. The Secretaries shall consult with the Attorney General on the implications of selections on the competition and market-structure characteristics of the broader AI ecosystem. The Chair of the Federal Trade Commission is encouraged to participate in these consultations. The Secretaries shall, to the extent consistent with applicable law and to the extent that the Secretaries assess that the requirement promotes national defense, national security, or the public interest, as appropriate, select at least one proposal developed and submitted jointly by a consortium of two or more small- or medium-sized organizations—as determined by those organizations' market capitalization, revenues, or similar characteristics—provided that the Secretaries receive at least one such proposal that meets the appropriate qualifications. The Secretaries shall provide technical assistance, as appropriate, to small- or medium-sized organizations seeking to submit proposals. The criteria for selecting winning proposals shall include, at a minimum, consideration of the following characteristics of the applicants and any identified partner organizations, to the extent consistent with applicable law and to the extent that the Secretaries agree that the listed characteristics promote national defense, national security, or the public interest, as appropriate:

(i) proposed financing mechanisms and sources of funds secured or likely to be secured for work to be performed at the site;

(ii) plans for ensuring high-quality AI training operations to be executed at the site by the applicant or third-party partners;

(iii) plans for maximizing energy, water, and other resource efficiency, including waste-heat utilization in constructing and operating the AI data center at the site, the strength of the proposed energy master plan for the site, and the quality of analysis of potential strains on local communities;

(iv) safety and security measures, including cybersecurity measures, proposed to be implemented at the site, and capabilities for such implementation;

(v) capabilities and acumen of applicable AI scientists, engineers, and other workforce essential to the operation of AI infrastructure;

(vi) plans for commercializing or otherwise deploying or advancing deployment of appropriate intellectual property, including AI model weights, developed at the site, as well as plans for commercializing or otherwise deploying or advancing deployment of innovations related to power generation and transmission infrastructure developed in the course of building or operating AI infrastructure;

(vii) plans to help ensure that the construction and operation of AI infrastructure does not increase electricity costs to other ratepayers or water costs to consumers, including, as appropriate, through appropriate proposed or recommended future engagement with any applicable regulatory authorities and State, Tribal, or local governments;

(viii) plans to use high labor standards that help ensure continuous and high-quality work performed on the site, such as paying prevailing wages; hiring registered apprentices; promoting positive labor-management relations through a project labor agreement; and otherwise adopting high job quality and labor standards for the construction and operations workforce as set forth in Executive Order 14126 of September 6, 2024 (Investing in America and Investing in American Workers), and a plan to address labor-related risks associated with the development and use of AI;

(ix) design features and operational controls and plans that mitigate potential environmental effects and implement strong community health, public safety, and environmental protection measures;

(x) other benefits to the community and electric grid infrastructure surrounding the site;

(xi) experience completing comparable construction projects;

(xii) experience in compliance with Federal, State, and local permits and environmental reviews relevant to construction and operation of AI infrastructure or, in the alternative, other evidence of an ability to obtain and comply with such permits or reviews in an efficient manner;

(xiii) the presence of organizational and management structures to help ensure sound governance of work performed at the site;

(xiv) the effect of the selection of an applicant on the emergence of an interoperable, competitive AI ecosystem;

(xv) whether an applicant has already been assigned an opportunity, or is being assigned another opportunity, to build a frontier AI data center on a Federal site through the solicitation process described in this section; and

(xvi) other considerations of national defense, national security, or the public interest, including economic security, as the Secretary of Defense and the Secretary of Energy deem appropriate.

(h) By June 30, 2025, the Secretary of Defense and the Secretary of Energy, in consultation with the Secretary of the Interior, shall each develop a framework through which any winning applicants selected under subsection (g) of this section may apply to lease sites respectively identified under subsection (a) of this section, and cleared under subsection (d) of this section, to construct and operate AI infrastructure, and by which the applicants may own the AI infrastructure facilities on those sites, subject to the conditions described in subsections (i)-(x) of this subsection. To the extent that the Secretaries assess that it is consistent with national defense, national security, or the public interest, as appropriate, these frameworks shall allow for winning applicants to cooperate with other appropriate private-sector entities on construction and operation activities, including through contracting and subcontracting relationships, and the frameworks shall not require that parties proposing to own AI infrastructure be identical to those proposing to operate the infrastructure or perform work at the sites on which the infrastructure is located. Actions taken by Federal entities pursuant to the frameworks shall conform to any applicable requirements of Appendix B of Office of Management and Budget (OMB) Circular A-11 and any other appropriate budget-scoring practices; applicable in-kind consideration shall be taken into account in calculating the cost to lessees of any such leases. As part of the foregoing work, the Secretary of Defense and the Secretary of Energy shall, to the extent consistent with their respective authorities and with national defense, national security, or the public interest, as appropriate, require lease or contract terms that accomplish the following:

(i) establish a target of the applicant's beginning construction of a frontier AI data center by January 1, 2026, and commencing full-capacity operation of the AI infrastructure by December 31, 2027, subject to fulfillment of relevant statutory and regulatory requirements, and in a manner consistent with opportunities to operate the infrastructure at or below full capacity at an earlier date;

(ii) require that, concurrent with operating a frontier AI data center on a Federal site, non-Federal parties constructing, owning, or operating AI infrastructure have procured sufficient new clean power generation resources with capacity value to meet the frontier AI data center's planned electricity needs, including by providing power that matches the data center's timing of electricity use on an hourly basis and is deliverable to the data center;

(iii) clarify that non-Federal parties bear all responsibility for paying any costs that parties to the frameworks described in subsection (h) of this section, as well as transmission providers or transmission organizations or other entities not party to the contract, incur from work pursuant to it, including costs of work performed by agencies to complete necessary environmental reviews, any costs related to the procurement of clean power generation resources and capacity in accordance with subsection (g)(ii) of this section, any costs of decommissioning AI infrastructure on Federal sites, any costs of developing transmission infrastructure needed to serve a frontier AI data center on a Federal site, and the fair market value of leasing and using applicable Federal lands;

(iv) require adherence to technical standards and guidelines for cyber, supply-chain, and physical security for protecting and controlling any facilities, equipment, devices, systems, data, and other property, including AI model weights, that are developed, acquired, modified, used, or stored at the site or in the course of work performed on the site. The Secretary of Commerce, acting through the Director of the National Institute of Standards and Technology (NIST) and the Director of the AI Safety Institute (AISI) at NIST, in consultation with the Secretary of Defense, the Secretary of Energy, and the Director of National Intelligence, shall identify available standards and guidelines to which adherence shall be required under this subsection. The identified standards should reflect and incorporate guidelines and best practices developed by the Secretary of Commerce, acting through the Director of NIST, pursuant to Executive Order 14028 of May 12, 2021 (Enhancing United States Cybersecurity), and Executive Order 14110 of November 1, 2023 (Safe, Secure, and Trustworthy Development and Use of Artificial Intelligence). The Secretary of Commerce, acting through the Director of AISI at NIST, shall support the ongoing improvement of the framework described in this subsection by developing security guidelines for frontier AI training and operation and, as part of this work, shall comprehensively evaluate the security implications of publicly available AI models that the Secretary of Commerce, acting through the Director of AISI at NIST, deems globally significant;

(v) require that non-Federal parties owning or operating frontier AI data centers sign a memorandum of understanding with the Secretary of Commerce, acting through the Director of AISI at NIST, to facilitate collaborative research and evaluations on AI models developed, acquired, modified, run, or stored at the site or in the course of work performed on the site, for the purpose of assessing the national-security or other significant risks of those models;

(vi) require non-Federal parties to report information about investments or financial capital from any person used or involved in the development (including construction), ownership, or operation of AI infrastructure on the site and in the development, operation, or use of AI models operating in such AI infrastructure, as appropriate to evaluate risks to national security; and require non-Federal parties to limit the involvement in any such activities of, or the use or involvement in any such activities of investments or financial capital from, any person whom the Secretaries of Defense or Energy deem appropriate on national security grounds;

(vii) require non-Federal parties owning or operating AI data centers on Federal sites to take appropriate steps to advance the objective of harnessing AI, with appropriate safeguards, for purposes of national security, military preparedness, and intelligence operations, including with respect to the objectives and work outlined in NSM-25. Such steps shall, as consistent with applicable legal authorities, include collaborating with the Federal Government on regularly recurring assessments of the national-security implications of AI models developed on Federal sites, as appropriate. In addition, as appropriate and consistent with any relevant Federal procurement laws and regulations, the non-Federal parties shall be required to commit to providing access to such models, and critical resources derivative of such models, to the Federal Government for national-security applications at terms at least no less favorable than current market rates, consistent with NSM-25 and the associated Framework to Advance AI Governance and Risk Management in National Security. To the extent feasible, AI models and resources derived from them shall be developed and provided to the Federal Government in a manner that prevents vendor lock-in and supports interoperability, including as consistent with the measures in section 5 of OMB Memorandum M-24-18;

(viii) require that non-Federal parties owning or operating frontier AI data centers on Federal sites develop plans to make available computational resources that are not dedicated to supporting frontier AI training, or otherwise allocated under another provision, for commercial use by startups and small firms on nondiscriminatory terms and in a manner that minimizes barriers to interoperability, entry, or exit for users;

(ix) require non-Federal parties owning or operating AI infrastructure on Federal sites to explore the availability of clean energy resources—such as geothermal power generation resources and thermal storage, long-duration storage paired with clean energy, and carbon capture and sequestration as described in section 3(e) of this order, as well as beneficial uses of waste heat—at any appropriate sites that those parties lease for purposes of constructing frontier AI data centers on Federal sites or procuring power generation capacity to serve these data centers; and

(x) require AI developers owning and operating frontier AI data centers on Federal sites either to procure, for use in the development of their data centers, an appropriate share (as measured by monetary value) of leading-edge logic semiconductors fabricated in the United States to the maximum extent practicable; or to develop and implement a plan, subject to the respective approval of the Secretary of Defense or the Secretary of Energy, to qualify leading-edge logic semiconductors fabricated in the United States for use in the developer's data centers as soon as practicable. The Secretary of Defense and the Secretary of Energy shall develop any such requirements—including any determinations about amounts of leading-edge logic semiconductors that may be considered “appropriate”—in consultation with the Secretary of Commerce.

(i) Within 1 year of the date of this order and consistent with applicable law, the Secretary of Defense, in consultation with the Secretary of Commerce, the Secretary of Energy, the Secretary of Homeland Security, the Director of National Intelligence, and the Assistant to the President for National Security Affairs, shall issue regulations that prescribe heightened safeguards to protect computing hardware acquired, developed, stored, or used on any sites on which frontier AI infrastructure is located and that are managed by the Department of Defense, as needed to implement or build upon the objectives of, or the requirements established pursuant to, subsection 4(g)(iv). The regulations shall include requirements to conform with appropriate high-impact level standards identified through the Federal Risk and Authorization Management Program, and they shall further provide for appropriate penalties consistent with applicable authorities. No less than annually the Secretary of Defense, in consultation with the aforementioned individuals, shall review the need for updates to the regulations, and promulgate any necessary revisions. The Secretary of Energy shall impose substantively the same requirements with respect to frontier AI infrastructure on sites managed by the Department of Energy, to the extent authorized by law.

(j) To enable the use—for advancing geothermal power development, including the development of thermal storage—of Federal lands already subject to leases:

(i) Within 180 days of the date of this order, the Secretary of the Interior shall establish a program with personnel dedicated to providing technical assistance for, streamlining, and otherwise advancing direct-use leasing of geothermal projects on BLM lands, including as consistent with the policies set forth in 43 C.F.R. subpart 3205, and leases of geothermal projects on lands subject to mining claims or under an oil and gas lease.

(ii) When issuing leases and related authorizations for geothermal projects, the Secretary of the Interior shall consider the extent to which the requirements of the National Environmental Policy Act (NEPA), 42 U.S.C. 4321 et seq., the Endangered Species Act, 16 U.S.C. 1531 et seq., and other appropriate statutes have been satisfied by prior analyses of the lease area.

(k) In performing the work described in section 4 of this order, including as related to the selection and management of sites, the head of each respective Federal agency shall:

(i) consult, as appropriate and consistent with applicable law, Executive Order 13175 of November 6, 2000 (Consultation and Coordination with Indian Tribal Governments), and the Presidential Memorandum of November 30, 2022 (Uniform Standards for Tribal Consultation), with Tribal Nations for which such work may have implications or who otherwise request such consultation;

(ii) seek input from, as appropriate and consistent with applicable law and Administration policies, with State and local governments and other stakeholders and communities for which such work may have implications; and

(iii) consider taking actions that present the greatest opportunities to support the goals described in Safely and Responsibly Expanding U.S. Nuclear Energy: Deployment Targets and A Framework for Action (November 2024).

Sec. 5. Protecting American Consumers and Communities. (a) Within 180 days of the date of this order, the Secretary of Energy, in consultation with the Chair of the Council of Economic Advisors and the heads of other agencies that the Secretary deems appropriate, shall submit a report to the President on the potential effects of AI data centers on electricity prices for consumers and businesses. This report shall include electricity-rate-structure best practices for appropriate Federal agencies, State regulators, and transmission providers and transmission organizations to promote procurement of clean energy generation resources as components of AI infrastructure without increasing costs for other customers through cost-allocation processes or other mechanisms—particularly in regions that have or are expected to have high concentrations of AI infrastructure—as well as regional analyses of key data center hubs. The report shall further account for any existing approaches developed by Federal agencies to engage transmission providers and State regulators regarding electricity prices. After submitting the report, the Secretary of Energy shall engage appropriate private-sector entities, to include the winning applicants selected under subsection 4(g) of this order, on the report's findings and recommendations.

(b) The Secretary of Energy shall provide technical assistance to State public utility commissions to consider rate structures, including clean transition tariffs and any other appropriate structures identified under subsection (a) of this section, to enable new AI infrastructure to use clean energy without causing unnecessary increases in electricity or water prices.

(c) The Secretary of Energy and the heads of other appropriate agencies as the Secretary of Energy deems appropriate, shall coordinate to expand research-and-development efforts related to AI data center efficiency. Supported research and development shall cover, as appropriate, efficiency considerations associated with data center buildings, including the data center shell; electrical systems; heating, ventilation, and cooling infrastructure; software; and beneficial use cases for wastewater heat from data center operations. As part of this work, the Secretary of Commerce and the Secretary of Energy shall submit a report to the President identifying appropriate ways that agencies can advance industry-wide data center energy efficiency through research and development, including server consolidation; hardware efficiency; virtualization; optimized cooling and airflow management; and power management, monitoring, and capacity planning.

(d) In implementing this order with respect to AI infrastructure on Federal sites, the heads of relevant agencies shall prioritize taking appropriate measures to keep electricity costs low for households, consumers, and businesses.

(e) Within 180 days of the date of this order, the Director of OMB, in consultation with the Chair of the Council on Environmental Quality (CEQ), shall evaluate best practices for public participation and governmental engagement in the development of potential siting and energy-related infrastructure for data centers, to include practices for seeking input on potential health, safety, and environmental impacts and mitigation measures for nearby communities. The Director shall present recommendations to the Secretary of Defense and the Secretary of Energy, who shall—as feasible and appropriate, and to advance the goals of assuring effective governmental engagement and meaningful public participation—implement and incorporate these recommendations into their siting and related decision-making processes regarding AI infrastructure.

Sec. 6. Facilitating Electric Grid Interconnections for Federal Sites. (a) Within 60 days of the date of this order, for the purpose of supporting any winning applicants of the solicitations described in subsection 4(e) of this order, the Secretary of Energy shall establish requirements for transmission providers and transmission organizations to report to the Secretary information regarding surplus interconnection service; available transmission capacity for interconnecting generators; opportunities for clean repowering; and proposed, planned, or initiated projects to build clean power generation capacity for which construction is not complete, but which have executed generation interconnection agreements. Information requested regarding these proposed, planned, or initiated projects shall include the size, location, and generation technology for each such clean power generation project, as well as the status and estimated cost of any transmission upgrades necessary to enable that project's interconnection consistent with the interconnection agreement. The Secretary shall facilitate communication, as appropriate, among the owners of such surplus interconnection service, facilities with opportunities for clean repowering, or clean power generator projects and winning applicants to the solicitations described in subsection 4(e) of this order. The Secretary shall further establish appropriate requirements for transmission providers and transmission organizations to continue reporting information described in this subsection on an ongoing basis, and in any event no less than annually.

(b) Within 120 days of the date of this order, the Secretary of Energy shall identify and communicate, as appropriate, a prioritized list of underutilized points of interconnection that are relevant to AI infrastructure on Federal sites and that demonstrate the highest potential for uses associated with AI infrastructure. In developing this list, the Secretary shall direct transmission providers and transmission organizations to identify areas of the transmission network best suited to serve as points of interconnection for either data centers or other AI infrastructure that will use electricity from the transmission system—and locations best suited for interconnection of clean generators to serve such data centers—considering criteria such as minimizing the need for transmission upgrades necessary to accommodate such interconnection and access to clean energy generation resources.

(c) By June 30, 2025, the Secretary of Energy, in coordination with the Secretary of Defense and in consultation, as appropriate, with the Secretary of the Interior and the Secretary of Agriculture, shall engage with transmission providers and transmission organizations owning, operating, or maintaining transmission infrastructure located near Federal sites selected for AI infrastructure to identify any grid upgrades, deployment of advanced transmission technologies such as high-performance conductors or grid-enhancing technologies, operational changes, or other steps expected to be required for extending interconnection services to AI infrastructure by the end of 2027. Such engagements shall continue as the parties deem appropriate, and they shall prioritize, as appropriate, efforts to enable use of surplus interconnection services, clean repowering, and other methods of accelerated shifts toward clean power and beneficial use of waste heat. The engagements shall also include consideration of ways that the performance of such work as described in this subsection can most contribute to lower regional electricity prices.

(d) The Secretary of Energy shall conduct an analysis of currently available transmission infrastructure serving potential sites, and the likely cost and feasibility of, and timeline for, developing additional such infrastructure needed for constructing and operating a frontier AI data center on sites identified under subsection 4(a) of this order, and cleared under subsection 4(d) of this order, including by providing the frontier AI data center with clean energy and capacity. The Secretary shall identify and collect from transmission providers and transmission organizations information that the Secretary deems necessary for the analysis required under this subsection. The Secretary shall, as appropriate, treat such information as critical electric infrastructure information.

Sec. 7. Expeditiously Processing Permits for Federal Sites. (a) The heads of Federal Permitting Agencies shall prioritize work and exercise all applicable authorities, as appropriate, to expedite the processing of permits and approvals required for the construction and operation of AI infrastructure on Federal sites, with the goal of issuing all permits and approvals required for construction by the end of 2025 or as soon as they can be completed consistent with applicable law. As part of this work, the Permitting Council may provide coordination of permitting for AI infrastructure on Federal sites, as appropriate and to the extent that the relevant developers of AI infrastructure submit a notice of the initiation of a proposed covered project under 42 U.S.C. 4370m-2 and the project is determined to be such a covered project by the Permitting Council.

(b) To facilitate expeditious implementation of the requirements under NEPA with respect to Federal sites:

(i) The Secretary of Defense, the Secretary of the Interior, and the Secretary of Energy shall identify, within their respective agencies, personnel dedicated to performing NEPA reviews of projects to construct and operate AI infrastructure on Federal sites.

(ii) The Secretary of Defense, in consultation with the Secretary of the Interior, the Secretary of Agriculture, the Secretary of Commerce, and the Secretary of Energy, shall undertake a programmatic environmental review, on a thematic basis, of the environmental effects—and opportunities to mitigate those effects—involved with the construction and operation of AI data centers, as well as of other components of AI infrastructure as the Secretary of Defense deems appropriate. The review shall conclude, with all appropriate documents published, on the date of the close of the solicitations described in subsection 4(e) of this order, or as soon thereafter as possible. The review shall, as applicable, incorporate by reference previously developed environmental studies, surveys, and impact analyses, including the analysis described in subsection 4(b)(ii) of this order.

(iii) After the conclusion of the programmatic review described in subsection (b)(ii) of this section, the Secretary of Defense, the Secretary of the Interior, the Secretary of Energy, and the heads of other relevant agencies, as appropriate, shall commence any further environmental reviews that are required under NEPA for the construction and operation of AI infrastructure on Federal sites, including by applying any available categorical exclusions. Such reviews shall, as appropriate, build on or incorporate by reference the programmatic environmental review conducted under subsection (b)(ii) of this section, as well as any other studies, surveys, and impact analyses that the Secretaries deem appropriate.

(c) To advance expeditious preconstruction permitting and ensure full compliance with air-quality permit requirements for AI infrastructure, the Administrator of the EPA, in consultation with the Secretary of Defense and the Secretary of Energy, shall:

(i) within 30 days of the selection of winning applications under subsection 4(g) of this order, engage State and local permitting authorities with jurisdiction over sites selected for AI infrastructure, as appropriate, to enhance relevant authorities' understanding of the technical characteristics of AI infrastructure projects as relevant to new source reviews under the Clean Air Act, 42 U.S.C. 7401 et seq., and to enhance the public's understanding of the same, as well as to facilitate the acquisition of information by AI developers operating on Federal sites regarding best practices for expeditiously obtaining air-quality permits;

(ii) continue engagements with State and local permitting authorities, and provide technical assistance to AI developers operating on Federal sites, on an ongoing basis and as appropriate, to help advance expeditious conclusion of, and compliance with, new source reviews; and

(iii) following the acquisition of all preconstruction air-quality permits by developers, take steps to ensure, on an ongoing basis and as appropriate, that AI developers operating on Federal sites adhere to all requirements of operational air-quality permits applicable to their respective projects; that information needed to demonstrate compliance, possibly including air-monitoring data, is made publicly available and regularly updated; and that best practices are identified for air-emissions reduction and air-quality monitoring regarding AI infrastructure on Federal sites.

(d) To help ensure expeditious permitting or permission processes related to waters of the United States and harbor and river improvements, the Secretary of Defense shall prioritize work, as appropriate, to process applications for permits administered by the United States Army Corps of Engineers (USACE) under the Clean Water Act, 33 U.S.C. 1251 et seq., and to process applications for permission for appropriate projects under section 14 of the Act of March 3, 1899 (33 U.S.C. 408), as consistent with the statutes' requirements, in order to render determinations on any such permits or permissions associated with AI infrastructure on Federal sites by the end of 2025, or as soon as feasible consistent with statutory requirements. The Secretary shall, consistent with applicable law, prioritize allocation of resources toward USACE district offices, and direct the allocation of resources within such offices, as needed to comply with this directive. The Secretary shall further apply all general permits applicable to AI infrastructure where appropriate to promote expeditious permitting on such Federal sites.

(e) Within 30 days of the selection of any winning applications under subsection 4(g) of this order, the Secretary of Defense and the Secretary of Energy shall initiate Tribal consultations as applicable and appropriate based on the sites selected. Upon receipt of sufficient project information, the Secretary of Defense and the Secretary of Energy shall further initiate consultations with the Secretary of the Interior, acting through the Director of the United States Fish and Wildlife Service (USFWS), to ensure that the construction and operation of AI infrastructure on each site that is identified under subsection 4(a) of this order, cleared under subsection 4(d) of this order, and subsequently chosen as the location for the construction and operation of AI infrastructure pursuant to a winning application under subsection 4(g) of this order are not likely to jeopardize the continued existence of any endangered species or threatened species or result in the destruction or adverse modification of a critical habitat of such species. The Secretary of Defense and the Secretary of Energy shall conclude such consultations with USFWS, to the maximum extent practicable, within 90 days of the initiation of such consultations when feasible and consistent with statutory requirements.

(f) To advance the development of geothermal energy production and thermal storage, including in support of AI infrastructure on Federal sites:

(i) Within 60 days of the date of this order, the Secretary of the Interior shall undertake a programmatic environmental review, on a thematic basis, of the environmental impacts and associated mitigations involved with the construction and operation of a geothermal power plant.

(ii) By the date on which the review described in subsection (f)(i) of this section is completed, the Secretary of the Interior shall establish a target cumulative capacity of permitted or operational geothermal projects by a year that the Secretary shall designate.

(iii) Within 60 days of the date of this order, the Secretary of the Interior shall assess existing categorical exclusions that are listed in the NEPA procedures of other agencies and could apply to actions taken in connection with geothermal energy development. The Secretary shall propose adopting such categorical exclusions as the Secretary, after consultation with the heads of agencies whose NEPA procedures list the categorical exclusions, deems appropriate, and, after considering all comments received through applicable public comment processes, take any actions to adopt categorical exclusions that are appropriate given the received comments, as consistent with the requirements of NEPA and 40 C.F.R. parts 1500-1508. The Secretary shall prioritize the expeditious permitting of geothermal projects, including the application of any appropriate categorical exclusions adopted under this subsection, on PGZs. The Secretary shall prioritize work to expeditiously permit geothermal projects on PGZs above the work described in subsection (f)(i) of this section.

(iv) When issuing leases and related authorizations for geothermal projects on PGZs, the Secretary of the Interior shall fulfill the requirements of NEPA and the Endangered Species Act in a manner that allows for the earliest possible operation of geothermal power plants consistent with applicable law.

(v) The Secretary of Defense, the Secretary of the Interior, and the Secretary of Energy shall, as appropriate, coordinate to determine and clarify appropriate procedures for the execution of leases or subleases for developing or expanding clean energy generation resources, including geothermal energy generation resources, on withdrawn lands subject to the jurisdiction of the Department of Defense or the Department of Energy.

Sec. 8. Ensuring Adequate Transmission Infrastructure for Federal Sites. (a) The Secretary of Energy, in consultation with the Secretary of Defense and the Secretary of the Interior, shall take steps to enable AI infrastructure on Federal sites to have reliable access to transmission facilities adequate for the operation of frontier AI data centers by the end of 2027.

(b) To promote any needed upgrades and development of transmission infrastructure that is located on or that is necessary to support Federal sites with AI infrastructure, the Secretary of Energy, in consultation with the Secretary of the Interior, acting through the Director of BLM and the Director of USFWS, shall:

(i) by September 30, 2025, identify and initiate use of all appropriate authorities to construct, finance, facilitate, and plan such upgrades and development, including through the Transmission Infrastructure Program administered by the Western Area Power Administration; and

(ii) prioritize the allocation of staff and resources for developing transmission infrastructure needed to support AI infrastructure on Federal sites—and in doing so, as appropriate, allocate relevant staff and resources from any component within the Department of Energy for this purpose—consistent with the requirements and objectives of this order and applicable law.

(c) Because of the importance of frontier AI infrastructure, including transmission capacity, to the defense industrial base, critical infrastructure, and military preparedness:

(i) The Secretary of Energy shall consider expected use of frontier AI data centers on Federal sites as part of the Secretary's triennial study of electric transmission capacity constraints and congestion under section 216(a)(1) of the Federal Power Act (16 U.S.C. 824p(a)(1)).

(ii) Consistent with the requirements of section 216(a)(2) of the Federal Power Act (16 U.S.C. 824p(a)(2)), and based on any findings made in future studies of electric transmission capacity constraints and congestion as described in subsection (c)(i) of this section, the Secretary shall consider whether to designate geographic areas around frontier AI infrastructure on Federal sites as national interest electric transmission corridors.

(d) The Secretary of Energy shall, as appropriate, help ensure that transmission facilities upgraded or developed to support AI data centers on Federal sites:

(i) are designed to support all reasonably foreseeable electric loads, including through the deployment of grid-enhancing technologies, high-performance conductors, and other advanced transmission technologies, including those described in the Department of Energy's Innovative Grid Deployment Liftoff report, that will increase the capabilities of the transmission facilities on a timely and cost-effective basis; and

(ii) conform to conductor efficiency standards or other technical standards or criteria that the Secretary determines will optimize facilities' performance and cost-effectiveness.

(e) To improve the timely availability of critical grid equipment for frontier AI infrastructure, such as electrical transformers, circuit breakers, switchgears, and cables, and to protect electricity consumers from exposure to rising equipment prices:

(i) Within 90 days of the date of this order, the Secretary of Defense, the Secretary of Commerce, and the Secretary of Energy shall jointly consult with domestic suppliers of such technologies on the expected needs of AI infrastructure on Federal sites, suppliers' current production plans, and opportunities for Government support in helping suppliers meet market demands.

(ii) Within 180 days of the date of this order, the Secretary of Energy shall facilitate industry-led convenings on transformers and other critical grid components, which shall include appropriate representatives from agencies, transmission providers and transmission organizations, domestic suppliers of transformers, data center developers, and other private-sector organizations. On an ongoing basis, the Secretary, after consulting with participants in the industry-led convenings, shall:

(A) on at least an annual basis, develop and publish supply and demand forecasts for transformers, including forecasts for different transformer variants and analyses of supply and demand trends under different future scenarios, which shall include scenarios for growth in electricity demand from AI infrastructure and other sources of demand; and

(B) consider and, as appropriate, execute purchases of transformers and other critical grid components in order to provide demand certainty for domestic manufacturers to invest in capacity for meeting the needs of AI infrastructure. Any decision to execute such purchases shall be based on economic or other industry data, including the capacity utilization of domestic suppliers of transformers or other components, that the Secretary deems relevant to evaluating the status of the domestic industry. The Secretary shall subsequently execute sales of any purchased transformers or other critical grid components at times that the Secretary deems appropriate based on such data.

(f) Within 180 days of the date of this order, the Secretary of Energy shall establish requirements for transmission providers and transmission organizations to report to the Secretary transmission-related information to assist in siting and accelerating the interconnection of generation resources to serve frontier AI data centers on sites identified under section 4(a) of this order and cleared under subsection 4(d) of this order. Such information may include data on transmission congestion to help identify where additional transmission investments could enable the development of additional transmission capacity to serve such AI data centers.

(g) Within 180 days of the date of this order, the heads of agencies that possess loan or loan-guarantee authorities shall evaluate whether any such authorities could be used to support the development of AI infrastructure on Federal sites—including the production of critical grid equipment as described in subsection (e) of this section, or other actions to strengthen the AI infrastructure supply chain. In cases in which any authorities are available and appropriate for this purpose, the heads of relevant agencies shall provide that information to developers of AI infrastructure on Federal sites or other appropriate private-sector entities.

Sec. 9. Additional Efforts to Improve Permitting and Power Procurement Nationwide. (a) The heads of Federal Permitting Agencies shall designate, with respect to each of their component agencies, dedicated staff to handle all matters related to permits and approvals for AI infrastructure. Such designations shall include personnel dedicated to coordinating with and addressing the needs of applicants for permits under the respective agency's purview. In designating such personnel, the heads of Federal Permitting Agencies shall, as appropriate, implement staffing arrangements and other mechanisms that accelerate permitting for AI infrastructure to the maximum extent possible.

(b) To improve review practices pursuant to NEPA:

(i) Within 60 days of the date of this order, the heads of Federal Permitting Agencies, in coordination with the Chair of CEQ, shall assess existing categorical exclusions and identify opportunities to establish new categorical exclusions to support AI infrastructure on Federal sites, consistent with the requirements of NEPA and 40 C.F.R. parts 1500-1508. The heads of agencies whose NEPA regulations include categorical exclusions related to fiber-optic cables are encouraged, in undertaking these assessments, to evaluate whether such categorical exclusions may be applied to the development of fiber-optic cables as used for AI infrastructure.

(ii) Within 120 days of the date of this order, the heads of Federal Permitting Agencies shall, as appropriate and consistent with applicable law, propose any new categorical exclusions and, after considering all comments received through applicable public comment processes, take any actions to establish categorical exclusions that are appropriate given the received comments.

(iii) Within 120 days of the date of this order, and consistent with the directives described in section 7 of this order, the Secretary of Defense, the Secretary of the Interior, the Secretary of Agriculture, and the Secretary of Energy shall identify any existing categorical exclusions that are listed in the NEPA procedures of other agencies and that are relevant to the development of clean energy, electric transmission, or AI data centers and take any appropriate steps to adopt such categorical exclusions where appropriate and consistent with the requirements of NEPA and 40 C.F.R. parts 1500-1508. The Secretary of Defense, the Secretary of the Interior, the Secretary of Agriculture, and the Secretary of Energy shall take any appropriate steps to adopt and apply such categorical exclusions to AI infrastructure on Federal sites where consistent with the requirements of NEPA and 40 C.F.R. parts 1500-1508.

(c) Within 180 days of the date of this order, the Secretary of Energy shall issue a request for information on opportunities for accelerated interconnection at existing power plants, including as related to surplus interconnection service and clean repowering. The request shall seek details on the ownership of such plants with surplus interconnection service and the plants' suitability for colocation of new clean power generation resources with shared grid access.

(d) Within 90 days of the date of this order, the Secretary of Energy shall issue a request for information from private-sector entities including transmission providers, transmission organizations, and clean energy developers regarding load interconnection processes. The Secretary shall subsequently engage with transmission providers and transmission organizations regarding best practices to improve the transparency and efficiency of such processes, including through adopting new technologies, software, and procedures. The Secretary shall provide technical assistance and financial assistance to facilitate such adoption, as appropriate. The Secretary shall publish a report describing the results of this work within 1 year of the date of this order.

(e) To promote the expeditious, responsible development of nuclear power generation resources, the Secretary of Defense and the Secretary of Energy shall:

(i) seek to facilitate the deployment of additional nuclear power and, as relevant, supply-chain services on lands owned by, respectively, the Department of Defense and the Department of Energy—including Department of Defense installations and sites owned or managed by the Department of Energy National Laboratories—by, as appropriate and consistent with applicable law, identifying opportunities for such deployment on specific lands to the extent such opportunities exist and, in the case of the Secretary of Energy only, by evaluating whether financial support for such deployment is appropriate;

(ii) within 180 days of the date of this order, coordinate to publish a joint list of ten high-priority sites—or, if fewer than ten appropriate sites exist, as many sites as possible—which may overlap with sites identified and cleared under section 4 of this order, that are most conducive to expeditious, safe, and responsible deployment of additional nuclear power capacity readily available to serve AI data center electricity demand by December 31, 2035, taking into account factors including Federal, State, Tribal, and local ordinances; permitting and other regulatory requirements; water access; climate resilience and natural-hazard risks; and transmission and interconnection dynamics; and

(iii) within 1 year of the date of this order, publish either a joint plan or their own respective plans describing how each Secretary will facilitate deployment of additional nuclear power capacity as described in this subsection on any such sites. Any such plan shall address selection of appropriate nuclear reactor technologies; the licensing and permitting of relevant technologies or facilities; the approach that each Secretary would take to ensure the safe and responsible transportation of uranium and any other radioactive material to the site; the approach that each Secretary would take to ensure the safe and responsible storage or disposal of any spent nuclear fuel; remediation of the site after the plant ceases operation as needed; and any other steps necessary to ensure the deployment will protect public health, safety, and the environment, consistent with all applicable legal requirements and the principles of the document entitled Safely and Responsibly Expanding U.S. Nuclear Energy: Deployment Targets and a Framework for Action (November 2024); and

(iv) when carrying out actions under this subsection, comply with the directives of section 4(k) of this order.

(f) Within 180 days of the date of this order, the Secretary of Commerce, in consultation with the Secretary of Defense, the Secretary of Energy, and the White House Council on Supply Chain Resilience, shall submit a report to the President on supply chain risks applicable to the United States data center industry. The report shall include analysis of supply chain risks associated with the materials used to construct and maintain data centers, the electronics necessary to operate a data center, and emerging data center technologies, as well as recommended steps for the Federal Government to take to address identified risks. The report shall also include analysis on supply chain risks applicable to the generation and transmission infrastructure needed to power AI data centers. On an ongoing basis, as appropriate, the Secretary of Commerce shall engage with the private sector to identify emerging supply chain risks that have the potential to undermine the success of the United States AI infrastructure industry—with such success defined to include the industry's commercialization of emerging technologies—and to recommend policy solutions to address identified risks.

(g) Within 180 days of the date of this order, to promote the expeditious, responsible development and deployment of distributed energy solutions that support the development and operation of AI infrastructure, the Secretary of Energy shall develop model contracts for using distributed energy resources (DERs) to increase the local grid's capacity to support AI infrastructure. In developing such contracts, the Secretary shall consider options for cost-effective uses of DERs, including distribution-sited generation resources, energy storage assets, and opportunities for flexible management of electricity demand. The model contracts shall, as appropriate, include clauses providing for the owners of data centers to finance costs incurred by other entities in developing, installing, and operating DERs, consistent with the objective of utilities accounting for these financing activities when processing data center owners' interconnection applications.

(h) By July 31, 2025, the Permitting Council shall engage with developers of AI infrastructure to advance their understanding of resources available under title 41 of the Fixing America's Surface Transportation Act (Public Law 114-94) to accelerate permitting processes and reviews for clean energy projects that are part of AI infrastructure on Federal sites. As part of this work, the Permitting Council, in consultation with the White House Task Force on AI Datacenter Infrastructure announced on October 29, 2024, shall endeavor to engage small developers of AI infrastructure.

(i) Within 180 days of the date of this order, the Secretary of the Army, acting through the Chief of Engineers and Commanding General of the USACE, shall, consistent with applicable law, assess existing nationwide permits (NWPs) to determine how they may be applied to facilitate the construction of AI data centers and develop and publish a list of NWPs that could facilitate such construction. The Secretary of the Army, acting through the Chief of Engineers and Commanding General of the USACE, shall, as appropriate and consistent with applicable law, subsequently establish such new NWPs as expediently as possible.

(j) Within 60 days of the date of this order, the Secretary of Energy shall release for public comment draft reporting requirements for AI data centers covering all phases of AI data centers' development and operation—including material extraction, component fabrication, transportation, construction, operation, recycling, and retirement —regarding embodied greenhouse gas emissions, water usage, and excess heat or energy expenditures, as distinct from operational intensity of greenhouse gas emissions.

(k) Within 60 days of the date of this order, the Secretary of Energy, in coordination with the Administrator of the EPA and the Chair of CEQ, shall establish a grand challenge, serving as a call to voluntary action for appropriate private-sector and other stakeholders, for the purpose of:

(i) setting targets for minimizing the power usage effectiveness ratio and water usage effectiveness ratio of AI data centers, with a goal of bringing the power usage effectiveness ratio of AI data centers on Federal sites below 1.1;

(ii) promoting best practices for the beneficial use of waste heat and other efforts to maximize efficiency;

(iii) promoting best practices for data center energy management and sustainable design and operational practices for data centers that avoid or reduce adverse effects on natural and cultural resources and communities, and that protect public health and the environment;

(iv) raising AI developer and user awareness regarding the comparative energy intensities of different computational tasks; and

(v) developing best practices and standards for software and algorithmic efficiency.

Sec. 10. Engagement Abroad. (a) Within 90 days of the date of this order, the Secretary of State, in consultation with the Secretary of Defense, the Secretary of Commerce, the Secretary of Energy, the Administrator of the United States Agency for International Development, the Assistant to the President for National Security Affairs, and the heads of other relevant agencies as the Secretary of State may deem appropriate, shall develop a plan for engaging allies and partners on accelerating the buildout of trusted AI infrastructure around the world. Such a plan shall include measures to advance collaboration on the global buildout of trusted AI infrastructure; mitigate and prevent harms to local and affected communities; engage the private sector and investor community to identify and mitigate barriers to AI infrastructure investments; support the deployment of commercially available reliable clean power sources and the development and commercialization of emerging clean energy technologies, such as small modular nuclear reactors; exchange best practices for permitting, power procurement, and cultivating talent to build, operate, and maintain trusted AI infrastructure; and strengthen cyber, physical, and supply chain security safeguards related to AI infrastructure. Within 1 year of the date of this order, the Secretary of State shall submit to the Assistant to the President for National Security Affairs a report on actions taken pursuant to this plan.

(b) Within 120 days of the date of this order, the Assistant to the President for National Security Affairs shall convene heads of appropriate agencies, to include the Secretary of State, the Secretary of the Treasury, the Secretary of Commerce, the Secretary of Energy, the Chief Executive Officer of the United States International Development Finance Corporation, and the President of the Export-Import Bank of the United States, to identify and implement actions to facilitate United States exports and engagements abroad related to advanced nuclear technologies and relevant supply-chain services.

Sec. 11. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 14, 2025.

[FR Doc. 2025-01395

Filed 1-16-25; 8:45 am]

Billing code 3395-F4-P